OVERSEAS PRIVATE INVESTMENT CORPORATION

Sunshine Act Meeting Notice

TIME AND DATE: Thursday, September 13, 2018 1 p.m. (OPEN Portion), 1:15 p.m. (CLOSED Portion).

PLACE: Offices of the Corporation, Twelfth Floor Board Room, 1100 New York Avenue NW, Washington, DC

STATUS: Meeting OPEN to the Public from 1 p.m. to 1:15 p.m. Closed portion will commence at 1:15 p.m. (approx.).

MATTERS TO BE CONSIDERED:

1. President's Report

2. Minutes of the Open Session of the June 14, 2018, Board of Directors Meeting

FURTHER MATTERS TO BE CONSIDERED: (Closed to the Public 1:15 p.m.)

1. Insurance Project—Ethiopia

2. Finance Project—Ghana

3. Finance Project—Nigeria

4. Finance Project—Paraguay

5. Finance Project—Guatemala

6. Finance Project—El Salvador and Panama

7. Finance Project—Pakistan

8. Finance Project—South and Southeast Asia

9. Finance Project—Southeast Asia

10. Proposed FY 2020 Budget

11. Minutes of the Closed Session of the June 14, 2018, Board of Directors Meeting

12. Reports

13. Pending Projects

CONTACT PERSON FOR MORE INFORMATION: Information on the meeting may be obtained from Catherine F. I. Andrade at (202) 336-8768, or via email at Catherine.Andrade@opic.gov.

Dated: August 21, 2018.
Catherine Andrade,
Corporate Secretary, Overseas Private Investment Corporation.

[FR Doc. 2018-18335 Filed 8-21-18; 11:15 am]

BILLING CODE 3210-01-P